DEPARTMENT OF HOUSING AND URBAN DEVELOPMENT

[Docket No. FR-4820-N-23]

Notice of Proposed Information Collection: Comment Request; Multifamily Housing Service Coordinator Program

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: July 14, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Willie Spearmon, Director, Office of Housing Assistance and Grant Administration, Department of Housing and Urban Development, 451 7th Street SW., Washington, DC 20410, telephone (202) 708-3000 (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Multifamily Housing Service Coordinator Program.

OMB Control Number, if applicable: 2502-0447.

Description of the need for the information and proposed use: HUD evaluates the grant applications (SF-424 and related documents) for the need and proposed use of grant funds and owners' ability to administer awarded funds of the Multifamily Housing Service Coordinator Program. HUD staff will use requests for extensions to evaluate anticipated program costs and the continued need for the program. The semi-annual Performance Reports will be used to determine how well grant funds met stated program goals. Grantees will also be able to retain data on the effectiveness of the program and how well the public was served. The Payment Voucher is used to monitor grant funds for eligible costs over the term of the grant, and the grantee may similarly use this voucher to track and record their requests for payment reimbursement for grant-funded expenses.

Agency form numbers, if applicable: HUD-50080-SCMF, HUD-91186/91186-i, HUD-91186-A & HUD-92456.

Estimation of the total numbers of hours needed to prepare the information collection including number of respondents, frequency of response, and hours of response: The estimated total number of burden hours needed to prepare the information collection is 51, 100; the number of respondents is 6,700 generating approximately 14,400 annual responses; the frequency of response is quarterly, semi-annually, and annually; and the estimated time needed to prepare the response varies from 15 minutes to 40 hours.

Status of the proposed information collection: Extension of a currently approved collection.

Authority: The Paperwork Reduction Act of 1995, 44 U.S.C. chapter 35, as amended.

Dated: May 8, 2003.
Sean G. Cassidy,
General Deputy Assistant Secretary for Housing-Deputy Federal Housing Commissioner.

[FR Doc. 03-12123 Filed 5-14-03; 8:45 am]

BILLING CODE 4210-27-M